DEPARTMENT OF THE INTERIOR

Bureau of Land Management

[OR-014-01-1610-PG; GP 2-0174]

Klamath Provincial Advisory Committee; Meeting

AGENCY: Bureau of Land Management, Klamath Falls Resource Area.

ACTION: Meeting notice for the Klamath Provincial Advisory Committee.

SUMMARY: The Klamath Provincial Advisory Committee will meet at the Redding Municipal Airport, Redding Aero Enterprises building conference room, 3775 Flight Avenue, Redding, CA 96002 (530-224-2300), on Friday May 10 from 8:30 a.m. to 4:30 p.m. Among the topics to be discussed is the annual program of work for the committee, and reports from the subcommittees. The entire meeting is open to the public. Information to be distributed to the committee members is requested ten (10) days prior to the start of the meeting. An opportunity for public comment is scheduled for 11:30 a.m. to 12 Noon.

FOR FURTHER INFORMATION CONTACT: Additional information concerning the Klamath Provincial Advisory Committee may be obtained from Teresa Raml, Field Manager, Klamath Falls Resource Area, 2795 Anderson Ave., Building 25, Klamath Falls, OR 97603, Phone Number 541-883-6916, FAX 541-884-2097, or e-mail traml@or.blm.gov.

Dated: April 4, 2002.
Donald K. Hoffheins,
Acting Field Manager, Klamath Falls Resource Area.

[FR Doc. 02-8882 Filed 4-11-02; 8:45 am]

BILLING CODE 4310-33-P